DEPARTMENT OF THE INTERIOR

National Park Service

[N6639; NPS-WASO-NAGPRA-NPS0041361; PPWOCRADN0-PCU00RP14.R50000]

Notice of Intended Repatriation: Indianapolis Museum of Art, Inc. D.B.A. Newfields, Indianapolis, IN

AGENCY: National Park Service, Interior.

ACTION: Notice.

SUMMARY: In accordance with the Native American Graves Protection and Repatriation Act (NAGPRA), the Indianapolis Museum of Art, Inc. D.B.A. Newfields intends to repatriate certain cultural items that meet the definition of objects of cultural patrimony and that have a cultural affiliation with the Indian Tribes or Native Hawaiian organizations in this notice.

DATES: Repatriation of the cultural items in this notice may occur on or after January 15, 2026.

ADDRESSES: Send additional, written requests for repatriation of the cultural items in this notice to Jennifer Gallatin Rigsby, Indianapolis Museum of Art, Inc. D.B.A. Newfields, 4000 Michigan Road, Indianapolis, IN 46208-3326, email jrigsby@discovernewfields.org.

SUPPLEMENTARY INFORMATION: This notice is published as part of the National Park Service's administrative responsibilities under NAGPRA. The determinations in this notice are the sole responsibility of the Indianapolis Museum of Art, Inc. D.B.A. Newfields, and additional information on the determinations in this notice, including the results of consultation, can be found in the summary or related records. The National Park Service is not responsible for the determinations in this notice.

Abstract of Information Available

A total of 19 cultural items have been requested for repatriation. The 19 objects of cultural patrimony are six abalone pendants and 13 projectile points. The six abalone pendants were taken from a burial mound on the Sacramento River near Sacramento, California, by C.P. Smith of Sacramento prior to 1900. From Mr. Smith it passed to C.W. Fair of Davenport, Iowa from whom Earl Townsend Jr. obtained it on July 16, 1954. Earl Townsend Jr. gave the pendants to the John Herron Art Institute, now the Indianapolis Museum of Art at Newfields, in 1962. The 13 projectile points are all from California and were purchased in San Francisco in 1928 by Dr. Byron W. Marshall of Nashville, Indiana and were in the Brown County, Indian Museum until 1951 when Earl Townsend Jr. purchased the museum. Earl Townsend Jr. gave the pendants to the John Herron Art Institute, now the Indianapolis Museum of Art at Newfields, in 1964.

Determinations

The Indianapolis Museum of Art, Inc. D.B.A. Newfields has determined that:

• The 19 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Wilton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 15, 2026. If competing requests for repatriation are received, the Indianapolis Museum of Art, Inc. D.B.A. Newfields must determine the most appropriate requestor prior to repatriation. Requests for joint repatriation of the cultural items are considered a single request and not competing requests. The Indianapolis Museum of Art, Inc. D.B.A. Newfields is responsible for sending a copy of this notice to the Indian Tribes and Native Hawaiian organizations identified in this notice and to any other consulting parties.

Authority: Native American Graves Protection and Repatriation Act, 25 U.S.C. 3004 and the implementing regulations, 43 CFR 10.9.

Dated: November 19, 2025.
Melanie O'Brien,
Manager, National NAGPRA Program.

[FR Doc. 2025-22905 Filed 12-15-25; 8:45 am]

BILLING CODE 4312-52-P